DEPARTMENT OF TRANSPORTATION

Federal Aviation Administration

[Docket No: FAA-2024-2434]

Notice of Virtual Meeting With Industry

AGENCY: Federal Aviation Administration (FAA), DOT.

ACTION: Notice of virtual meeting for Prospective Manufacturers of Airborne Position Reference Tools (APRT).

SUMMARY: The FAA is holding a virtual industry event to educate companies interested in manufacturing supplemental surveillance tools to increase airborne situational awareness. These “Airborne Position Reference Tools” (APRTs) will be available for purchase and operation by non-federal entities (e.g., airport authorities). APRTs are intended for use in air traffic control towers that are staffed by non-federally employed controllers and not equipped with Standard Terminal Automation Replacement Systems (STARS).

DATES: Wednesday December 11, 2024; 1:30-4:30 p.m. Eastern Time.

FOR FURTHER INFORMATION CONTACT: Michael Schoen, Advanced Systems Design Service, Federal Aviation Administration, 800 Independence Avenue SW, Washington, DC 20591; telephone: (202) 267-9841; email: michael.j.schoen@faa.gov.

SUPPLEMENTARY INFORMATION:

I. Statutory authority

The FAA is authorized to regulate aviation technologies that are manufactured for operation by non-federal entities in the National Airspace System (NAS). (49 U.S.C. 44708; 40102(4)(c).) The Advanced Systems Design Service is tasked to assess the suitability of technologies that industry proposes for non-federal use in the NAS. (14 CFR part 171.75.)

II. Background

Please join the Federal Aviation Administration (FAA) for a virtual industry event to educate companies interested in manufacturing and selling supplemental surveillance tools to increase airborne situational awareness. These “Airborne Position Reference Tools” (APRTs) will be available for purchase and operation by non-federal entities (e.g., airport authorities). They are intended for use in air traffic control towers that are staffed by non-federally employed controllers and not equipped with Standard Terminal Automation Replacement Systems (STARS).

The FAA does not operate every Airport Traffic Control Tower (ATCT) in the National Airspace System (NAS). Some towers are staffed by non-federally employed controllers, either via the FAA Contract Tower (FCT) program, or with non-federal funding. A number of these “non-FAA” towers do not have a Certified Tower Radar Display (i.e., STARS). Without radar data the controllers at those towers must rely on their own visual observations, and their radio communications with pilots. Many of these towers desire a tool that supplements situational awareness by providing controllers with a digital picture of their airspace.

APRTs may only be used to supplement controllers' visual observations, and their radio communications with pilots. APRTs may not be used as the basis for maintaining separation between aircraft and they may not connect to FAA networks and/or FAA equipment.

The FAA is not conducting an acquisition for APRTs. Sponsors who want to procure and operate an APRT must purchase FAA approved systems/services. The FAA has developed minimum requirements that prospective manufacturers must meet and an approval process they must follow. Multiple vendors' systems/services may be approved for non-federal use under the APRT umbrella.

On Wednesday December 11th from 1:30-4:30 p.m. the FAA will virtually brief that information to interested parties and entertain questions. We will also announce the date on which prospective manufacturers may submit their design approval requests.

III. How To Register for This Event

This event will be held via video conference. Please use the following link to register for an event invitation: https://liveeventsfaa.wufoo.com/forms/industry-day-for-airborne-position-reference-tools/.

Issued in Washington, DC, on October 9, 2024.
Shelly A. Beauchamp,
Team Manager, Advanced Systems Design Service (AJW-121).

[FR Doc. 2024-24764 Filed 10-22-24; 8:45 am]

BILLING CODE 4910-13-P